DEPARTMENT OF THE TREASURY

Submission for OMB Review; Comment Request

February 8, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 19, 2001 to be assured of consideration.

Bureau of the Public Debt (PD)

OMB Number: 1535-0023.

Form Number: PD F 4000.

Type of Review: Extension.

Title: Request to Reissue United States Savings Bonds.

Description: The form is used by owners to identify securities for which reissue is requested and to indicate the new registration required.

Respondents: Individuals or households.

Estimated Number of Respondents: 600,000.

Estimated Burden Hours Per Respondent: 30 minutes.

Frequency of Response: On occasion.

Estimated Total Reporting Burden Hours: 300,000 hours.

OMB Number: 1535-0042.

Form Number: PD F 2216.

Type of Review: Extension.

Title: Application by Preferred Creditor for Disposition Without Administration Where Deceased Owner's Estate Includes United States Registered Securities and/or Related Checks in an Amount not Exceeding $500.

Description: PD F 2216 is used by a preferred creditor of a decedent's estate to request payment of savings bonds/notes and/or related checks not exceeding $500, when estate is not being administered.

Respondents: Individuals or households, Business or other for-profit.

Estimated Number of Respondents: 5,000.

Estimated Burden Hours Per Respondent: 10 minutes.

Frequency of Response: On occasion.

Estimated Total Reporting Burden Hours: 835 hours.

OMB Number: 1535-0062.

Form Number: PD F 2966.

Type of Review: Extension.

Title: Special Bond of Indemnity to the United States of America.

Description: The form is used by the purchaser of savings bonds in a chain letter scheme to request refund of the purchase price of the bonds.

Respondents: Individuals or households.

Estimated Number of Respondents: 5,000.

Estimated Burden Hours Per Respondent: 8 minutes.

Frequency of Response: On occasion.

Estimated Total Reporting Burden Hours: 665 hours.

OMB Number: 1535-0091.

Form Number: None.

Type of Review: Extension.

Title: Regulations governing United States Treasury Certificates of Indebtedness—State and Local Government Series.

Description: These are regulations authorizing the issuing of United States Treasury Bonds, Notes and Certificates of Indebtedness of the State and Local Government Series.

Respondents: State, Local, or Tribal Government.

Estimated Number of Respondents: 1,000.

Estimated Burden Hours Per Respondent: 10 minutes.

Frequency of Response: On occasion.

Estimated Total Reporting Burden Hours: 167 hours.

Clearance Officer: Vicki S. Thorpe, (304) 480-6553, Bureau of the Public Debt, 200 Third Street, Parkersburg, WV 26106-1328.

OMB Reviewer: Alexander T. Hunt (202) 395-7860, Office of Management and Budget, Room 10226, New Executive Office Building, Washington, DC 20503.

Mary A. Able,
Departmental Reports, Management Office.

[FR Doc. 01-3839 Filed 2-14-01; 8:45 am]

BILLING CODE 4810-40-P